DEPARTMENT OF THE TREASURY

United States Mint

Renewal for Currently Approved Information Collection: Comment Request for Generic Clearance for the Collection of Qualitative Feedback on Agency Service Delivery

AGENCY: United States Mint, Treasury.

ACTION: Notice and request for comments.

SUMMARY: The United States Mint invites the general public and other Federal agencies to take this opportunity to comment on currently approved information collection 1525-0014, as required by the Paperwork Reduction Act of 1995, Public Law 104-13 (44 U.S.C. 3506(c)(2)(A)). The United States Mint, a bureau of the Department of the Treasury, is soliciting comments on the United States Mint customer comment cards/complaint forms, discussion groups, focus groups, in-person observation testing, and surveys to include post-transaction surveys, opt-out web surveys, and in-person observation testing (Web site or software usability tests).

DATES: Written comments should be received on or before April 25, 2014 be assured of consideration.

ADDRESSES: Direct all written comments to Yvonne Pollard; Compliance Branch; United States Mint; 801 9th Street NW., 6th Floor; Washington, DC 20220; (202) 354-6784 (this is not a toll-free number); YPollard@usmint.treas.gov.

FOR FURTHER INFORMATION CONTACT: Requests for additional information or for copies of the information collection package should be directed to Yvonne Pollard; Compliance Branch; United States Mint; 801 9th Street, NW., 6th Floor; Washington, DC 20220; (202) 354-8400 (this is not a toll-free number); YPollard@usmint.treas.gov.

SUPPLEMENTARY INFORMATION: Title: Collection of Qualitative Feedback on Agency Service Delivery.

OMB Number: 1525-0014.

Abstract: The proposed comment cards/complaint forms, discussion groups, focus groups, in-person observation testing, and surveys to include post-transaction surveys, opt-out web surveys (Web site or software usability tests), and opinion surveys will allow the United States Mint to assess the acceptance of, potential demand for, and barriers to acceptance/increased demand for current and future United States Mint products, and the needs and desires of customers for more effective, efficient, and satisfaction experience with United States Mint programs and services.

Current Actions: The United States Mint currently engages in information collection using the methods, and for the purposes, described in the abstract.

Type of Review: Renewal of a currently approved information collection.

Affected Public: Businesses or other-for-profit; not-for-profit institutions; State, Local, or Tribal Governments; and individuals or households.

Estimated Number of Respondents: The estimated number of annual respondents is 10,000.

Estimated Total Annual Burden Hours: The estimated number of annual burden hours is 10,000.

Requests for Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 18, 2014.
Beverly Ortega Babers,
Chief Administrative Officer, United States Mint.

[FR Doc. 2014-03777 Filed 2-21-14; 8:45 am]

BILLING CODE 4810-37-P